POSTAL SERVICE

39 CFR Part 111

New Standards for Mailing Lithium Batteries

AGENCY: Postal Service.

ACTION: Final rule.

SUMMARY: The Postal Service™ is revising the standards for mailing lithium and lithium-ion batteries. The new standards identify all small consumer-type lithium batteries as mailable when properly packaged and labeled.

DATES: Effective Date: October 5, 2007.

FOR FURTHER INFORMATION CONTACT: Bert Olsen, 202-268-7276.

SUPPLEMENTARY INFORMATION:

Background

We published a proposed rule in the Federal Register (72 FR 20463, April 25, 2007) to revise the standards for mailing lithium and lithium-ion batteries. The standards published in the proposed rule and adopted in this final rule, are consistent with, yet slightly more restrictive than, Department of Transportation (DOT) and International Air Transportation Association (IATA) regulations for transportation of lithium batteries. The new proposed standards provide clearer guidance to mailers and postal employees regarding the mailability of consumer-type lithium batteries than current standards provide.

Comments Received

We received comments from two trade associations which were generally supportive of the proposed standards. Their comments and our responses follow:

1. Comment: Do not limit the weight of a mailpiece containing lithium-ion batteries.

Within DOT regulations, the Postal Service agrees not to limit the weight of a mailpiece containing lithium-ion batteries since the proposed rule additionally limits the maximum allowable gram equivalency to 8 grams per battery and the maximum number of batteries per mailpiece to 3. The gram quantity restriction per cell and battery, and the restriction on the number of batteries per mailpiece, ensures compliance with DOT regulations. Therefore, the final rule does not contain a maximum mailpiece weight limit for packages containing lithium-ion batteries.

2. Comment: Do not restrict the number of lithium-ion batteries to the number of batteries needed to operate the device.

Within DOT regulations, the Postal Service agrees not to limit the number of lithium-ion batteries that can be mailed to the number of batteries needed to operate the device since the proposal already limits the number of batteries per mailpiece to 3. Therefore, the final rule does not restrict the number of lithium-ion batteries to the number needed to operate the device but rather limits the number of lithium-ion batteries per mailpiece to 3.

3. Comment: Do not restrict the mailing of primary lithium batteries to those only in their original retail packaging.

The Postal Service believes that the requirement to mail primary batteries in the original packaging offers assurance of adequate primary packaging. However, we are changing the final rule to read, “in the originally sealed packaging” regardless of the source of the packaging to allow for originally sealed packaging from sources other than retailers.

4. Comment: USPS required labeling: “Surface Mail Only,” in addition to DOT labeling: “Primary Lithium Batteries—Forbidden for Transportation Aboard Passenger Aircraft,” is redundant and will add to the cost of the label.

The Postal Service believes labels that read “Surface Mail Only” are known to postal employees and quickly recognized. Therefore, the final rule adopts the standards to require labeling as published in the proposal.

5. Comment: USPS should not require package labeling in excess of current DOT requirements.

DOT has announced their revised labeling requirements will be effective January 1, 2008. Postal labeling requirements will reflect DOT changes. In addition, the Postal Service believes that requiring labeling of mailpieces containing secondary as well as primary batteries and cells is a cautionary measure that identifies the content of the package. Therefore, the final rule adopts the standards to require labeling as published in the proposal.

6. Comment: Mailpieces containing primary lithium batteries should not be limited to 5 pounds. The DOT weight limit is 11 pounds of batteries in a shipping container and the Postal Service should adopt the same requirements.

The Postal Service believes it is not practical for postal personnel to discern the aggregate weight of batteries within a mailpiece. We believe that mailpieces containing individual batteries (batteries not packed with or installed in equipment) should not exceed 5 pounds. However, we recognize that when batteries are packed with or contained in devices, the devices themselves could easily account for the majority of the weight of a mailpiece and easily exceed 5 pounds. Therefore, the final rule adopts a 5 pound maximum mailpiece weight limit when primary batteries are not packed with or installed in the devices they operate and an 11 pound mailpiece weight limit when batteries are packed with or installed in the device they operate.

7. Comment: Do not prohibit damaged or recalled batteries from being mailed.

The Postal Service is not prohibiting the mailing of damaged or recalled batteries, but rather we are requiring that these batteries be mailed only with prior approval from the manager, Mailing Standards. Therefore, the final rule adopts the standard for mailing damaged or recalled batteries as published in the proposed rule.

Lithium batteries other than small consumer-type batteries remain nonmailable.

We adopt the following amendments to Mailing Standards of the United States Postal Service, Domestic Mail Manual (DMM), incorporated by reference in the Code of Federal Regulations. See 39 CFR 111.1, 111.4.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Revise the following sections of the Mailing Standards of the United States Postal Service, Domestic Mail Manual (DMM), as follows:

* * * * *

600 Basic Standards for All Mailing Services

601 Mailability

* * * * *

601.10 Hazardous Materials

* * * * *

10.20 Miscellaneous Hazardous Materials (Hazard Class 9)

* * * * *

[Add new 10.20.5 to read as follows:]

10.20.5 Primary Lithium (Non-Rechargeable) Cells and Batteries

Small consumer-type primary lithium cells or batteries (lithium metal or lithium alloy) like those used to power cameras and flashlights are mailable with the following restrictions. Each cell must contain no more than 1.0 gram (g) of lithium content per cell. Each battery must contain no more than 2.0 g aggregate lithium content per battery. Additionally, each cell or battery must meet the requirements of each test in the UN Manual of Tests and Criteria, Part III, and subsection 38.3 as referenced in DOT's hazardous materials regulation at 49 CFR 171.7. All primary lithium cells and batteries must be mailed within a firmly sealed package separated and cushioned to prevent short circuit, movement, or damage. Except for batteries installed in equipment, they must be in a strong outer package. All outer packages must have a complete delivery and return address. Primary lithium cells and batteries are mailable as follows:

a. Via surface transportation when the cells or batteries (not packed with or installed in equipment) are “in the originally sealed packaging.” They are forbidden aboard passenger aircraft. The outside of the package must be marked on the address side “Surface Mail Only, Primary Lithium Batteries—Forbidden for Transportation Aboard Passenger Aircraft.” The mailpiece must not exceed 5 pounds.

b. Via surface or air transportation when the cells or batteries are properly packed with or properly installed in the equipment they operate and the mailpiece has no more than the number of batteries needed to operate the device. Cells or batteries properly installed in the device they operate must be protected from damage and short circuit, and the device must be equipped with an effective means of preventing accidental activation. The outside of the package must be marked on the address side “Package Contains Primary Lithium Batteries.” The mailpiece must not exceed 11 pounds.

[Add new 10.20.6 to read as follows:]

10.20.6 Secondary Lithium-ion (Rechargeable) Cells and Batteries

Small consumer-type lithium-ion cells and batteries like those used to power cell phones and laptop computers are mailable with the following restrictions. Each cell must contain no more than 1.5 g of equivalent lithium content per cell. Each battery must contain no more than 8.0 g aggregate quantity of equivalent lithium content per battery. Additionally, each cell or battery must meet the requirements of each test in the UN Manual of Tests and Criteria, Part III, and subsection 38.3 as referenced in the DOT's hazardous materials regulation at 49 CFR 171.7. All secondary lithium-ion cells and batteries must be mailed in a firmly sealed package separated and cushioned to prevent short circuit, movement, or damage. Except for batteries installed in equipment, they must be in a strong outer package. All outer packages must have a complete delivery and return address. These cells and batteries are mailable as follows:

a. Via surface or air transportation when individual cells or batteries are mailed or when properly packed with or properly installed in the equipment they operate. Cells or batteries properly installed in the device they operate must be protected from damage and short circuit, and the device must be equipped with an effective means of preventing accidental activation. The outside of the package must be marked on the address side “Package Contains Lithium-ion Batteries (no lithium metal).”

b. The mailpiece must not contain more than 3 batteries.

[Add new 10.20.7 to read as follows:]

10.20.7 Damaged or Recalled Batteries

Damaged or recalled batteries are prohibited from mailing unless approved by the manager, Mailing Standards.

* * * * *

[Add new Exhibit 10.20.7 as follows:]

Exhibit 10.20.7.—Lithium Battery Mailability Chart
Primary lithium batteries (small non-rechargeable consumer-type batteries) | Surface transportation | Air transportation | Mailpiece weight limit | International APO/FPO
Without the equipment they operate (individual batteries) | Mailable | Prohibited | 5 lb | Prohibited.
Packed with equipment but not installed in equipment | Mailable | Mailable | 11 lb | Mailable.
Contained (properly installed) in equipment | Mailable | Mailable | 11 lb | Mailable.

Note 1: Each primary cell must not contain more than 1g lithium content.

Note 2: Each primary battery must not contain more than 2 g lithium content.

Secondary lithium-ion batteries (small rechargeable consumer-type batteries) | Surface transportation | Air transportation | Mailpiece battery limit | International APO/FPO
Without the equipment they operate (individual batteries) | Mailable | Mailable | no more than 3 batteries | Mailable.
Packed with equipment but not installed in equipment | Mailable | Mailable | no more than 3 batteries | Mailable.
Contained (properly installed) in equipment | Mailable | Mailable | no more than 3 batteries | Mailable.

Note 3: Each secondary cell must not contain more than 1.5 g equivalent lithium content.

Note 4: Each secondary battery must not contain more than 8 g equivalent lithium content.

Note 5: For secondary batteries (lithium-ion) there is a limit of 3 batteries per mailpiece.

601.11 Other Restricted and Nonmailable Matter

* * * * *

11.17 Battery-Powered Devices

[Revise the first sentence in 11.17 to read as follows:]

Cells or batteries properly installed in equipment must be protected from damage and short circuit and equipment or devices containing cells or batteries must include an effective means of preventing accidental activation.* * *

* * * * *

Neva R. Watson,
Attorney, Legislative.

[FR Doc. E7-19051 Filed 10-4-07; 8:45 am]

BILLING CODE 7710-12-P